DEPARTMENT OF AGRICULTURE

Forest Service

Management Area 11 Analysis; Seeley Lake Ranger District, Lolo National Forest, Missoula and Powell Counties, MT

AGENCY: Forest Service, USDA.

ACTION: Notice; intent to prepare an environment impact statement.

SUMMARY: The Forest Service will prepare an environmental impact statement (EIS) to disclose the effects of snowmobiling on specific sites within Management Area 11 of the Lolo National Forest Plan on the Seeley Lake Ranger District.

DATE: Initial comments concerning the scope of the analysis should be received in writing no later than April 13, 2000.

ADDRESSES: Send written comments to Deborah L. R. Austin, Forest Supervisor, Lolo National Forest, Building 24, Fort Missoula, Missoula, MT 59804.

FOR FURTHER INFORMATION CONTACT: Karen Linford, Seeley Lake Ranger District, HC 31, Box 3200, Seeley Lake, MT 59868, phone 406-677-3920, or email klinford@fs.fed.us.

SUPPLEMENTARY INFORMATION: The Lolo National Forest proposes to amend the Lolo Forest Plan in order to allow snowmobiling in specific sites that are located on the Seeley Lake Ranger District within Management Area 11 (MA 11) as described in the Lolo Forest Plan. The Lolo Forest Plan assigns land to 28 management areas. MA 11 represents large roadless blocks of land distinguished by their natural character and managed to provide for a variety of dispersed recreation activities and for wildlife that are dependent on old-growth forests. The forest plan prohibits motorized access in MA 11. Snowmobiling in portions of MA 11 is being considered in response to public interest in having a variety of dispersed recreation activities.

Public scoping was conducted on this proposal in 1998 and 1999 through public meetings and letters. Issues and comments identified during this earlier scoping will be carried forward and addressed in this analysis. During this process the Forest Service is seeking written comment, particularly addressing possible issues or alternatives. A scoping document will be prepared and mailed to parties known to be interested in the proposed action.

Effects of the proposed action on recreation, the Seeley Lake area economy wildlife, and roadless areas have been identified as four preliminary key issues. The following preliminary alternatives were identified in the original environmental analysis and respond to the key issues: (1) No action alternative—Do not allow any snowmobiling in MA 11, (2) Allow snowmobiling in specific portions of MA 11, (3) Close some areas not in MA 11 to snowmobiling, while opening specific MA 11 areas to snowmobiling, (4) Limit some of the areas open to snowmobiling with seasonal restrictions.

The federal Forest Service is the lead agency for preparing this EIS. They will consult with the United States Fish and Wildlife Service when making this decision. The responsible official who will make the decision regarding snowmobile use in Management Area 11 lands is Deborah L. R. Austin, Forest Supervisor, Lolo National Forest, Building 24, Fort Missoula, Missoula MT 59804. She will decide on this proposal after considering comments, responses, environmental consequences, applicable laws, regulations, and policies. The decision and rational for the decision will be documented in a Record of Decision.

The draft EIS is expected to be filed with the Environmental Protection Agency (EPA) and available for public review in September 2000. At that time, the EPA will publish a Notice of Availability of the Draft EIS in the Federal Register. The comment period on the Draft EIS will be 45 days from the date of the EPA's notice of availability in the Federal Register. The final EIS is scheduled to be completed by October 2000. The comment period on the draft environmental impact statement will be 45 days from the date the Environmental Protection Agency published the Notice of Availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.).

Dated: February 17, 2000.
Deborah L.R. Austin,
Forest Supervisor, Lolo National Forest.

[FR Doc. 00-4541 Filed 2-25-00; 8:45 am]

BILLING CODE 3410-11-M